SMALL BUSINESS ADMINISTRATION

13 CFR Part 121

Small Business Size Regulations

CFR Correction

In Title 13 of the Code of Federal Regulations, revised as of January 1, 2018, on page 393, in § 121.201, in the table “Small Business Size Standards by NAICS Industry”, the entry for NAICS code 336999 under Subsector 336 is completed by adding “All Other Transportation Equipment Manufacturing” under NAICS U.S. industry title and “1,000” under Size standards in number of employees.

[FR Doc. 2018-17794 Filed 8-15-18; 8:45 am]

BILLING CODE 1301-00-D